DEPARTMENT OF TRANSPORTATION

Coast Guard

[CGD08-01-024]

Houston/Galveston Navigation Safety Advisory Committee Meeting

AGENCY: Coast Guard, DOT.

ACTION: Notice of meetings.

SUMMARY: The Houston/Galveston Navigation Safety Advisory Committee (HOGANSAC) and its working groups will meet to discuss waterway improvements, aids to navigation, area projects impacting safety on the Houston Ship Channel, and various other navigation safety matters in the Galveston Bay area. All meetings will be open to the public.

DATES: The next meeting of HOGANSAC will be held on Wednesday, October 17, 2001 from 9 a.m. to approximately 12 noon. The meeting of the Committee's working groups will be held on Thursday, September 6, 2001, at 9 a.m. The meetings may adjourn early if all business is finished. Members of the public may present written or oral statements at either meeting.

ADDRESSES: The full Committee meeting will be held at the Texas Cruise Ship Terminal, Port of Galveston, Galveston, Texas (409-766-6113). The working group meeting will be held at the Center for Maritime Education, The Seaman's Church Institute, Houston, Texas (713-674-1236).

FOR FURTHER INFORMATION CONTACT: Captain Kevin Cook, Executive Director of HOGANSAC, telephone (713-671-5199), or Commander Peter Simons, Executive Secretary of HOGANSAC, telephone (713-671-5164), e-mail psimons@vtshouston.uscg.mil.

SUPPLEMENTARY INFORMATION: Notice of this meeting is given pursuant to the Federal Advisory Committee Act, 5 U.S.C. App. 2.

Agendas of the Meetings—Houston/Galveston Navigation Safety Advisory Committee (HOGANSAC)

The tentative agenda includes the following:

(1) Opening remarks by the Committee Sponsor (RADM Casto) (or the Committee Sponsor's representative), Executive Director (CAPT Cook) and Chairman (Tim Leitzell).

(2) Approval of the May 24, 2001 minutes.

(3) Old Business.

(a) Dredging projects.

(b) Electronic navigation.

(c) AtoN Knockdown Working Group.

(d) Facility Information Guide.

(e) TNRCC Clean Air Rules and Plans for Houston/Galveston.

(f) Mooring subcommittee report.

(g) Membership solicitation.

(h) 2002 Harbor Safety Conference plans.

(i) Texas City Container Terminal update.

(4) New Business.

(a) Operation BoatSmart.

(b) Navigational considerations impacting movement of offshore rigs in the Galveston Bay region.

Working Group Meeting. The tentative agenda for the working group meeting includes the following:

(1) Presentation by each working group of its accomplishments and plans for the future.

(2) Review and discuss the work completed by each working group. Working groups have been formed to examine the following issues: dredging and related issues, electronic navigation systems, AtoN knockdowns, impact of passing vessels on moored ships, recreational boater education issues. All working groups may not necessarily report out at this session, however, working group discussions not reported out at this October meeting will be addressed at a future meeting of HOGANSAC. Further, working group reports may not necessarily include discussions on all issues within the particular working group's area of responsibility. All meetings are open to the public. Please note that the meetings may adjourn early if all business is finished. Members of the public may make presentations, oral or written, at either meeting.

Information on Services for the Handicapped

For information on facilities or services for the handicapped or to request special assistance at the meetings, contact the Executive Director or Executive Secretary.

Dated: August 16, 2001.
Roy J. Castro,
Rear Admiral, U.S. Coast Guard, Commander, Eighth Coast Guard District.

[FR Doc. 01-22582 Filed 9-7-01; 8:45 am]

BILLING CODE 4910-15-P